DEPARTMENT OF ENERGY

Federal Energy Regulatory Commission

[Docket No. PF05-2-000]

Midwestern Gas Transmission Company; Notice of Intent To Prepare an Environmental Assessment for the Proposed MGT Eastern Extension Project, Request for Comments on Environmental Issues, and Notice of Public Scoping Meeting

January 21, 2005.

The staff of the Federal Energy Regulatory Commission (FERC or Commission) will prepare an environmental assessment (EA) that will discuss the environmental impacts of Midwestern Gas Transmission Company's (MGT) MGT Eastern Extension Project in Sumner and Trousdale Counties, Tennessee. This notice announces the opening of the scoping process the Commission will use to gather input from the public and interested agencies on the project. Your input will help the Commission staff determine which issues need to be evaluated in the EA. The Commission will use the EA in its decision making process to determine whether or not to authorize the project. Please note that the scoping period will close on March 3, 2005.

Comments may be submitted in written form or verbally. Further details on how to submit written comments are provided in the public participation section of this notice. In lieu of sending written comments, you are invited to attend the public scoping meeting that is scheduled as follows:

Tuesday, February 24, 2005, 7 p.m. (CST): Sumner County Building, 355 No. Belvedere Drive, Gallatin, TN, (615) 452-3604.

This notice is being sent to affected landowners; federal, state, and local government representatives and agencies; environmental and public interest groups; Native American tribes; other interested parties; and local libraries and newspapers in this proceeding. We ¹ encourage government representatives to notify their constituents of this planned project and encourage them to comment on their areas of concern.

¹ “We”, “us”, and “our” refer to the environmental staff of the Office of Energy Projects.

Summary of the Proposed Project

MGT proposes to construct and operate about 30 miles of 16-inch-diameter pipeline commencing at the MGT Portland Station in Sumner County, Tennessee and traversing southeasterly to proposed interconnects with Columbia Gulf Transmission Company and East Tennessee Natural Gas Company in Trousdale County, Tennessee. The proposed pipeline would deliver up to 120,000 decatherms per day (Dth/d) to Piedmont Natural Gas Company, Inc., a local distribution company, for long-term transportation. Additional pipeline facilities would consist of a pig launcher and piping modifications to existing reciprocating engines at the MGT Portland Station, mainline valve assemblies and a pig receiver at the terminus of the line, ultrasonic meters with electronic flow measurement, flow control valves, and data acquisition control buildings.

MGT plans to file a formal application for this project with the FERC in May 2005. They are requesting approval to begin construction in June 2006, with a proposed in-service date of November 1, 2006.

A map depicting MGT's proposed pipeline route is provided in Appendix 1.²

² The appendices referenced in this notice are not being printed in the Federal Register. Copies are available on the Commission's Web site at the “eLibrary” link or from the Commission's Public Reference and Files Maintenance Branch, Room 2A or call (202) 502-8371. For instructions on connecting to “eLibrary” refer to the end of this notice. Copies of the appendices were sent to all those receiving this notice in the mail.

Several issues have already been raised by concerned citizens, which include public safety, eminent domain, proximity to residences, and property values.

The EA Process

Although no formal application for authorizing natural gas facilities has been filed, the FERC staff is initiating its National Environmental Policy Act (NEPA) review now. The purpose of the FERC's Pre-filing Process is to encourage the early involvement of interested stakeholders and to identify and resolve issues before an application is filed with the FERC.

The FERC will use the EA to consider the environmental impact that could result if it issues MGT a Certificate of Public Convenience and Necessity.

This notice formally announces our preparation of the EA and the beginning of the process referred to as “scoping”. We are soliciting input from the public and interested agencies to help us focus the analysis in the EA on the potentially significant environmental issues related to the proposed action.

Our independent analysis of the issues will be included in an EA that will be mailed to federal, state, and local government agencies; elected officials; environmental and public interest groups; affected landowners; other interested parties; Native American tribes; local newspapers and libraries; and the FERC's official service list for this proceeding. A 30-day comment period will be allotted for review of the EA. We will consider all comments on the EA in any Commission Order that is issued for the project.

We have held early discussions with other jurisdictional agencies to identify their issues and concerns. These agencies include the U.S. Army Corps of Engineers, Nashville District; Tennessee Wildlife Resources Agency; and the Tennessee Department of Environment and Conservation, Divisions of Natural Heritage and Water Pollution Control. With this notice, we are asking these and other federal, state, and local agencies with jurisdiction and/or special expertise with respect to environmental issues to formally cooperate with us in the preparation of the EA. Agencies that would like to request cooperating status should follow the instructions for filing comments provided below.

Public Participation

You can make a difference by providing us with your specific comments or concerns about the proposal. Your comments should focus on the potential environmental effects, reasonable alternatives (including alternative locations/routes), and measures to avoid or lessen environmental impact. The more specific your comments, the more useful they will be. To ensure that your comments are timely and properly recorded, please mail your comments so that they will be received in Washington, DC on or before March 3, 2005, and carefully follow these instructions:

• Send an original and two copies of your letter to: Magalie R. Salas, Secretary, Federal Energy Regulatory Commission, 888 First St., NE., Room 1A, Washington, DC 20426;

• Label one copy of your comments for the attention of Gas Branch 1; DG2E; and

• Reference Docket No. PF05-2-000 on the original and both copies.

The public scoping meeting to be held on February 24, 2005 in Gallatin, TN is designed to provide another opportunity to offer comments on the proposed project. Interested groups and individuals are encouraged to attend this meeting and to present comments on the environmental issues they believe should be addressed in the EA. Transcripts of the meeting will be made so that your comments will be accurately recorded.

Please note that the Commission encourages electronic filing of comments. See 18 Code of Federal Regulations 385.2001(a)(1)(iii) and the instructions on the Commission's Internet Web site at http://www.ferc.gov under the “eFiling” link and the link to the User's Guide. Prepare your submission in the same manner as you would if filing on paper and save it to a file on your hard drive. Before you can file comments you will need to create an account by clicking on “Login to File” and then “New User Account”. You will be asked to select the type of filing you are making. This filing is considered a “Comment on Filing”.

When MGT submits its application for authorization to construct and operate the MGT Eastern Extension Project, the Commission will publish a Notice of Application in the Federal Register and will establish a deadline for interested persons to intervene in the proceeding. Because the Commission's NEPA Pre-filing Process occurs before an application to begin a proceeding is officially filed, petitions to intervene during this process are premature and will not be accepted by the Commission.

Environmental Mailing List

An effort is being made to send this notice to all individuals, organizations, and government entities interested in and/or potentially affected by the proposed project. This includes all landowners who are potential right-of-way grantors, whose property may be used temporarily for project purposes, or who own homes within distances defined in the Commission's regulations of certain above-ground facilities. If you wish to remain on our environmental mailing list, please return the Information Request Form included in Appendix 2. If you do not return this form, you will be removed from our mailing list.

Availability of Additional Information

A fact sheet prepared by the FERC entitled “An Interstate Natural Gas Facility On My Land? What Do I Need To Know?” is also available for viewing on the FERC Internet website. This fact sheet addresses a number of typically asked questions, including the use of eminent domain and how to participate in the Commission's proceedings.

Additional information about the project is available from the Commission's Office of External Affairs at 1-866-208-FERC (3372) or on the FERC Internet Web site (http://www.ferc.gov). Using the “eLibrary” link, select General Search from the “eLibrary” menu, enter the selected date range and Docket Number (i.e., PF05-2), and follow the instructions. Searches may also be done using the phrase MGT Extension Project in the Text Search field. For assistance, please contact FERC Online Support at FERCOnlineSupport@ ferc.gov or toll free at 1-866-208-3676, or for TTY, contact (202) 502-8659. The “eLibrary” link on the FERC Internet Web site also provides access to the texts of formal documents issued by the Commission, such as orders, notices, and rule makings.

In addition, the FERC now offers a free service called “eSubscription” that allows you to keep track of all formal issuances and submittals in specific dockets. This can reduce the amount of time you spend researching proceedings by automatically providing you with notification of these filings, document summaries, and direct links to the documents. To register for this service, go to http://www.ferc.gov/esubscribenow.htm.

Finally, MGT has established an Internet Web site for its project at http://www.mgt.nborder.com. The Web site includes a description of the project, overview map, contact information for MGT, and links to related documents.

Magalie R. Salas,
Secretary.

[FR Doc. E5-337 Filed 1-28-05; 8:45 am]

BILLING CODE 6717-01-P